DEPARTMENT OF COMMERCE

Foreign-Trade Zones Board

[Order No. 1520]

Designation Of New Grantee For Foreign-Trade Zone 147, Reading, Pennsylvania Area Resolution And Order

Pursuant to its authority under the Foreign-Trade Zones Act of June 18, 1934, as amended (19 U.S.C. 81a-81u), and the Foreign-Trade Zones Board Regulations (15 CFR Part 400), the Foreign-Trade Zones Board (the Board) adopts the following Order:

The Foreign-Trade Zones (FTZ) Board (the Board) has considered the application (filed 12/15/2006) submitted by the Foreign Trade Zone Corporation of Southeastern Pennsylvania, grantee of FTZ 147, Reading, Berks County, Pennsylvania, requesting reissuance of the grant of authority for said zone to the FTZ Corp of Southern Pennsylvania, a non-profit organization, which has accepted such reissuance subject to approval by the FTZ Board. Upon review, the Board finds that the requirements of the FTZ Act and the Board's regulations are satisfied, and that the proposal is in the public interest.

Therefore, the Board approves the application and recognizes the FTZ Corp of Southern Pennsylvania as the new grantee of Foreign Trade Zone 147, subject to the FTZ Act and the Board's regulations, including Section 400.28.

Signed at Washington, DC, this 23rd day of August 2007.

David M. Spooner,
Assistant Secretary of Commerce for Import Administration, Alternate Chairman Foreign-Trade Zones Board.

Attest:

Andrew McGilvray,
Executive Secretary.

[FR Doc. E7-17347 Filed 8-30-07; 8:45 am]

BILLING CODE 3510-DS-S